FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than September 11, 2017.

A. Federal Reserve Bank of Atlanta (Chapelle Davis, Assistant Vice President) 1000 Peachtree Street, NE., Atlanta, Georgia 30309. Comments can also be sent electronically to Applications.Comments@atl.frb.org:

1. Agostinho Alfonso Macedo Moncayo, Adriana Macedo Moncayo, Olga E. Macedo de Pita, Mercedes Coromoto de Abreu Gonzalez, Alejandro Jose Pita Macedo, Ricardo Andres Pita Macedo, Javier Andres Macedo Rodriguez, Joanna Graterol Macedo, Juan Javier Graterol Macedo, Massimo Xavier Marzari Macedo, Juan Jose de Abreu Macedo, Ernesto Jose de Abreu Pestana, Juan Christopher de Abreu, Jose Steve de Abreu, Bryan Eduardo de Abreu, Alberto Jose de Abreu, and Oliver David de Abreu Felipe, all of Miami, Florida; Maria Alejandra de Abreu Pestana, of New York City, New York; Jonathan Gabriel de Abreu Felipe, of Madrid, Spain; Miguel Antonio de Abreu Felipe, of Belfast, Northern Ireland; Sandra Macedo Moncayo, Javier Macedo Rodriguez, Belkis Macedo de Graterol, Candida Isabel Macedo Rodriguez, Nelly Macedo Rodriguez, Ernesto de Abreu Gonzalez, Carmen Elena de Abreu, Jose Alberto de Abreu Gonzalez, Diego Jose Macedo Rodriguez, and Juan Pablo de Abreu Macedo, all of Caracas, Venezuela; as well as certain minor children of the listed individuals; Individual Irrevocable Trust Settlement, Villas Irrevocable Trust Settlement, Carlota I Irrevocable Trust Settlement, Carlota II Irrevocable Trust Settlement, Admac Irrevocable Trust Settlement, Norte I Irrevocable Trust Settlement, Norte II Irrevocable Trust Settlement, Ricale Irrevocable Trust Settlement, Asao Holdings Revocable Trust Settlement, Asao Holding Irrevocable Trust Settlement, Aventura Irrevocable Trust Settlement, Los Roques Irrevocable Trust Settlement, Belma Irrevocable Trust Settlement, Joanvier Irrevocable Trust Settlement, Valcan Irrevocable Trust Settlement, Chrisnass Irrevocable Trust Settlement, Nelma Irrevocable Trust Settlement, Jupab Irrevocable Trust Settlement, Juanjo Irrevocable Trust Settlement, Santorini Irrevocable Trust Settlement, Mykonos Irrevocable Trust Settlement, Carmen Elena de Abreu Irrevocable Trust Settlement, Luitxi Irrevocable Trust Settlement, Acaymo Irrevocable Trust Settlement, Joscarda Irrevocable Trust Settlement, and Valle Colino Irrevocable Trust Settlement, all of Miami, Florida; Anchor Trustees International Limited, Auckland, New Zealand, Agostinho Alfonso Macedo Moncayo, Adriana Macedo Moncayo, Olga E. Macedo de Pita, Ricardo J. Souto, and Mercedes Coromoto de Abreu Gonzalez, all of Miami, Florida, Sandra Macedo Moncayo, Javier Macedo Rodriguez, Belkis Macedo de Graterol, Candida Isabel Macedo Rodriguez, Nelly Macedo Rodriguez, Ernesto de Abreu Gonzalez, Carmen Elena de Abreu, and Jose Alberto de Abreu Gonzalez, all of Caracas, Venezuela, as trustees for certain of the trusts listed above; Asao Holdings PTE, Ltd., Singapore, Singapore, Individual (USA) Holdings, LLLP, Villas Holding, LLC, Carlota I (USA) Holdings, LLLP, Carlota II (USA) Holdings, LLLP, Norte I (USA) Holdings, LLLP, Norte II (USA) Holdings, LLLP, Asao Holdings DE, LLLP, Aventura (USA) Holdings, LLLP, Los Roques (USA) Holdings, LLLP, Belma (USA) Holdings, LLLP, Joanvier (USA) Holdings, LLLP, Valcan (USA) Holdings, LLLP, Chrisnass (USA) Holdings, LLLP, Nelma (USA) Holdings, LLLP, Jupab (USA) Holdings, LLLP, Juanjo (USA) Holdings, LLLP, Santorini (USA) Holdings, LLLP, Mykonos (USA) Holdings, LLLP, Luitxi (USA) Holdings, LLLP, Acaymo (USA) Holdings, LLLP, Joscarda (USA) Holdings, LLLP, and Valle Colino (USA) Holdings, LLLP, all of Miami, Florida; to retain and acquire voting shares of Ocean Bankshares, Inc., Miami, Florida, and thereby retain and acquire shares of Ocean Bank, Miami, Florida.

B. Federal Reserve Bank of Dallas (Robert L. Triplett III, Senior Vice President) 2200 North Pearl Street, Dallas, Texas 75201-2272:

1. Marvin Edward Singleton III, Waxahachie, Texas; individually, to acquire voting shares of First Citizens Bancshares, Inc., and thereby indirectly acquire shares of Citizens National Bank of Texas, both of Waxahachie, Texas.

In addition, Marvin Edward Singleton III, individually and as trustee of the Singleton Grandchildren's Trust and the Separate Trust created under Section 6.22 of the George H. Singleton and Shirley K. Singleton 2011 Irrevocable Trust Agreement, as a group acting in concert to retain shares of First Citizens Bancshares, Inc., and thereby indirectly retain shares of Citizens National Bank of Texas, all of Waxahachie, Texas.

Board of Governors of the Federal Reserve System, August 21, 2017.
Yao-Chin Chao,
Assistant Secretary of the Board.

[FR Doc. 2017-17983 Filed 8-24-17; 8:45 am]

BILLING CODE 6210-01-P